SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions to OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: (202) 395-6974, Email address: OIRA_Submission@omb.eop.gov.

(SSA), Social Security Administration, DCRDP, Attn: Reports Clearance Officer, 107 Altmeyer Building, 6401 Security Blvd., Baltimore, MD 21235, Fax No.: (410) 966-2830, Email address: OPLM.RCO@ssa.gov.

I. The information collections below are pending at SSA. SSA will submit them to OMB within 60 days from the date of this notice. To be sure we consider your comments, we must receive them no later than February 13, 2012. Individuals can obtain copies of the collection instruments by calling the SSA Reports Clearance Officer at (410) 965-8783 or by writing to the above email address.

1. Application for Mother's or Father's Insurance Benefits—20 CFR 404.339-404.342, 20 CFR 404.601-404.603—0960-0003. Section 202(g) of the Social Security Act (Act) provides for the payment of monthly benefits to the widow or widower of an insured individual if the surviving spouse is caring for the deceased worker's child (who is entitled to Social Security benefits). SSA uses the information on Form SSA-5-F6 to determine an individual's eligibility for mother's or father's insurance benefits. The respondents are individuals caring for a child of the deceased worker who is applying for mother's or father's insurance benefits under the Old Age, Survivors, and Disability Insurance (OASDI) program.

Type of Request: Revision of an OMB-approved information collection.

Collection instrument | Number of respondents | Frequency of response | Average burden per response (minutes) | Estimated total annual burden (hours)
SSA-5-F6 (paper) | 1,611 | 1 | 15 | 403
MCS | 26,045 | 1 | 15 | 6,511
MCS/Signature Proxy | 26,044 | 1 | 15 | 6,511
Total | 53,700 |  |  | 13,425

2. Letter to Employer Requesting Information About Wages Earned by Beneficiary—20 CFR 416.703 & 404.801—0960-0034. SSA uses information from Form SSA-L725 to verify a beneficiary's wages when SSA has incomplete or questionable wage data. SSA uses the information to calculate the correct amount of benefits payable, and to maintain an accurate record of earnings for the beneficiary. Respondents are employers who provide information SSA needs to establish specific monthly earnings.

Type of Request: Extension of an OMB-approved information collection.

Collection instrument | Number of respondents | Frequency of response | Average burden per response (minutes) | Estimated total annual burden (hours)
SSA-L725 | 150,000 | 1 | 40 | 100,000

3. Student Reporting Form—20 CFR 404.367 & 20 CFR 404.368—0960-0088. Sections 20 CFR 404.367 and 20 CFR 404.368 mandate that a student beneficiary be in full-time attendance at an educational institution to qualify for student Social Security benefits. SSA requires beneficiaries to report events that may cause a reduction, termination, or suspension of their benefits. Using the information from Form SSA-1383, SSA determines if the change or event reported affects continuing entitlement to SSA benefits. In addition, SSA uses the information to determine the correct benefit amounts for student beneficiaries. The respondents are Social Security student beneficiaries.

Type of Request: Revision of an OMB-approved information collection.

Collection instrument | Number of respondents | Frequency of response | Average burden per response (minutes) | Estimated total annual burden (hours)
SSA-1383 | 74,887 | 1 | 6 | 7,489
SSA-1383-FC | 113 | 1 | 6 | 11
Total | 75,000 |  |  | 7,500

4. Letter to Employer Requesting Wage Information—20 CFR 404.726—0960-0138. SSA must establish and verify wage information for Supplemental Security Income (SSI) applicants and recipients when determining SSI eligibility and payment amounts. SSA uses Form SSA-L4201 to collect this information. SSA uses the information to determine eligibility and proper payment amounts for SSI applicants and recipients. The respondents are employers of SSI applicants and recipients.

Type of Request: Revision of an OMB-approved information collection.

Collection instrument | Number of respondents | Frequency of response | Average burden per response (minutes) | Estimated total annual burden (hours)
SSA-L4201 | 133,000 | 1 | 30 | 66,500

5. Claimant's Recent Medical Treatment—20 CFR 404.1512 and 416.912—0960-0292. When Disability Determination Services deny a claim at the reconsideration level, the claimant has a right to request a hearing before an administrative law judge (ALJ). For the hearing, SSA asks the claimant to complete and return the HA-4631 if the claimant's file does not reflect a current, complete medical history as the claimant proceeds through the appeals process. ALJs must obtain the information to update and complete the record and to verify the accuracy of the information. Through this process, ALJs can ascertain whether the claimant's situation has changed. The ALJs and hearing office staff use the response to make arrangements for consultative examination(s) and the attendance of an expert witness(es), if appropriate. During the hearing, the ALJs offer any completed questionnaires as exhibits and may use them to refresh the claimant's memory and to shape their questions. The respondents are claimants requesting hearings on entitlement to Old Age, Survivors, and Disability Insurance (OASDI) benefits or SSI payments.

Type of Request: Extension of an OMB-approved information collection.

Collection instrument | Number of respondents | Frequency of response | Average burden per response (minutes) | Estimated total annual burden (hours)
HA-4631 | 200,000 | 1 | 10 | 33,333

6. You Can Make Your Payment by Credit Card—0960-0462. Using information from Form SSA-4588 and its electronic application, form SSA-4589, SSA updates individuals' Social Security records to reflect payments made on their overpayments. In addition, SSA uses this information to process payments through the appropriate credit card company. SSA provides the SSA-4588 when we inform an individual that we detected an overpayment. Individuals may choose to make a one-time payment or recurring monthly payments by completing and submitting the SSA-4588.

SSA uses the SSA-4589 electronic intranet application only when individuals choose to telephone the Program Service Centers to make a one-time payment in lieu of completing Form SSA-4588. An SSA debtor contact representative completes the SSA-4589 electronic intranet application. Respondents are OASDI beneficiaries and SSI recipients who owe outstanding overpayments to SSA.

Type of Request: Revision of an OMB-approved information collection.

Collection instrument | Number of respondents | Frequency of response | Average burden per response (minutes) | Estimated total annual burden (hours)
SSA-4588 Paper Form | 13,200 | 1 | 10 | 2,200
SSA-4589 Electronic Intranet Application | 171,320 | 1 | 5 | 14,277
Total | 184,520 |  |  | 16,477

7. Request for Internet Services—Password Authentication—20 CFR 401.45—0960-0632. SSA uses a password infrastructure and process to verify the identity of individuals who choose to use the Internet to conduct personal business with SSA electronically. To obtain a password from SSA's Individual Password Services, we ask an individual for certain information prescribed by SSA. SSA uses the information to authenticate individuals prior to issuing a temporary password. Once SSA authenticates individuals, and these individuals create a permanent password, they may use SSA's password protected services, e.g., account status, change of address, direct deposit elections, or changes. The respondents are individuals electing to do personal business with SSA electronically.

Type of Request: Extension of an OMB-approved information collection.

Collection instrument | Number of respondents | Frequency of response | Average burden per response (minutes) | Estimated total annual burden (hours)
Internet Requestors | 3,092,069 | 1 | 10 | 515,345

II. SSA submitted the information collections below to OMB for clearance. Your comments regarding the information collections would be most useful if OMB and SSA receive them within 30 days from the date of this publication. To be sure we consider your comments, we must receive them no later than January 17, 2012. Individuals can obtain copies of the OMB clearance packages by calling the SSA Reports Clearance Officer at (410) 965-8783 or by writing to the above email address.

1. Coverage of Employees of State and Local Governments—20 CFR 404, Subpart M—0960-0425. Regulation section 20 CFR 404, Subpart M, prescribes the rules for states submitting reports of deposits and recordkeeping to SSA. SSA requires states (and interstate instrumentalities) to provide wage and deposit contribution information for pre-1987 periods. Not all states have completely satisfied their pending wage report and contribution liability with SSA for pre-1987 tax years. SSA needs these regulations until all pending items with all states are closed out, and to provide for collection of this information in the future, if necessary. The respondents are state and local governments or interstate instrumentalities.

Type of Request: Revision of an OMB-approved information collection.

Regulation section | Number of respondents | Frequency of response | Average burden per response (minutes) | Estimated total annual burden (hours)
404.1204(a) & (b) | 52 | 1 | 30 | 26
404.1215 | 52 | 1 | 60 | 52
404.1216(a) & (b) | 52 | 1 | 60 | 52
Total | 156 |  |  | 130

2. SSI Notice of Interim Assistance Reimbursement (IAR)—0960-0546. Section 1631(g) of the Act authorizes SSA to reimburse an IAR agency from an individual's retroactive SSI payment for assistance the IAR agency gave the individual for meeting basic needs while an SSI claim was pending or SSI payments were suspended or terminated. The State or local agency needs an IAR agreement with SSA to participate in the IAR program. The individual receiving the IAR payment signs an authorization form with an IAR agency to allow SSA to repay the IAR agency for funds paid in advance prior to SSA's determination on the individual's claim. The authorization represents the individual's intent to file for SSI, if they did not file an application prior to SSA receiving the authorization. Agencies who wish to enter into an IAR agreement with SSA need to meet the following requirements:

(a) Reporting Requirements—Each IAR agency agrees to:

(1) Notify SSA of receipt of an authorization for initial claims or cases they are appealing, and submit a copy of that authorization either through a manual or electronic process;

(2) Inform SSA of the amount of reimbursement;

(3) Submit a written request for dispute resolution on a determination;

(4) Notify SSA of interim assistance paid (using the SSA-8125 or the

SSA-L8125-F6);

(5) Inform SSA of any deceased claimants who participated in the IAR program and;

(6) Review and sign an agreement with SSA.

(b) Recordkeeping Requirements—The IAR agencies agree to retain all notices, agreement, authorizations, and accounting forms for the period defined in the IAR agreement for the purposes of SSA verifying transactions covered under the agreement.

(c) Third Party Disclosure Requirements—Each participating IAR agency agrees to send written notices from the IAR agency to the recipient regarding payment amounts and appeal rights.

(d) Periodic Review of Agency Accounting Process—The IAR agency makes the IAR accounting records of paid cases available for SSA review and verification. SSA conducts reviews either onsite or through the mail of the authorization forms, notices to the claimant, and accounting forms. Upon completion of the review, SSA provides a written report of findings to the IAR agency director.

The respondents are State IAR officers.

Type of Request: Revision of an OMB-approved information collection.

Type of request | Number of respondents | Frequency of response | Number of responses | Average burden per response (minutes) | Estimated total annual burden (hours)
Reporting Requirements
(a) State notification of receipt of authorization (electronic process) | 11 | Once per SSI Claimant | 97,330 | 1 | 1,622
(b) State submission of copy of authorization (manual process) | 27 | Once per SSI Claimant | 68,405 | 3 | 3,420
(c) State submission of amount of IA paid to recipients (using eIAR) | 38 | Once per SSI Claimant | 101,352 | 8 | 13,514
(d) State request for determination—dispute resolution | Average is about 2 States per year | As needed | 2 | 30 | 1
(e) State computation of reimbursement due form SSA using paper Form SSA-L8125-F6 | 38 | Once per SSI Claimant | 1,524 | 30 | 762
(f) State notification to SSA of deceased claimant | 20 | As needed when SSI claimant dies while claim is pending | 40 | 15 | 10
(g) State reviewing/signing of IAR Agreement | 38 | Once during life of the IAR agreement | 38 | 12 | 456
Recordkeeping Requirements
(h) Maintenance of authorization forms | 38 | One form per SSI claimant | 165,735 (includes both denied and approved SSI claims) | 3 | 8,287
(i) Maintenance of accounting forms and notices | 38 | One set per SSI claimant | 101,352 | 3 | 5,068
Third Party Disclosure Requirements
(j) Written notice from State to recipient regarding amount of payment | 38 | Once per SSI claimant | 101,352 | 7 | 11,824
Periodic Review of Agency Accounting Process
(k) Retrieve and consolidate authorization and accounting forms | 12 | One set of forms per SSI claimant for review by SSA once every 2 to 3 years | 12 | 3 hours | 36
(l) Participate in periodic review | 12 | For review by SSA once every 2 to 3 years | 12 | 16 hours | 192
(m) Correct administrative and accounting discrepancies | 6 | To correct errors discovered by SSA in periodic review | 6 | 4 hours | 24
Total Administrative Burden
Total | 38 | varies | 637,160 | varies | 45,216

3. Redetermination of Eligibility for Help with Medicare Prescription Drug Plan Costs—0960-0723. As per the requirements of the Medicare Modernization Act of 2003 (Pub. L. 108-173), SSA conducts low-income subsidy eligibility redeterminations for Medicare beneficiaries who currently receive the Medicare Part D subsidy and who meet certain criteria. Respondents complete Form SSA-1026-REDE under the following circumstances: (1) When individuals became entitled to the Medicare Part D subsidy during the past 12 months; (2) if they were eligible for the Part D subsidy for more than 12 months; or (3) if they reported a change in income, resources, or household size. Part D beneficiaries complete the SSA-1026-SCE when they need to report a potentially subsidy-changing event, including the following: (1) Marriage, (2) spousal separation, (3) divorce, (4) annulment of a marriage, (5) spousal death, or (6) moving back in with one's spouse following a separation. The respondents are current recipients of the Medicare Part D low-income subsidy who will undergo an eligibility redetermination for one of the reasons mentioned above.

Note: This is a correction notice. SSA published this information collection as an extension on September 23, 2011 at 76 FR 59180. Since we are revising the Privacy Act Statement, this is now a revision of an OMB-approved information collection. Type of Request: Revision of an OMB-approved information collection.

Collection instrument | Number of respondents | Frequency of response | Average burden per response (minutes) | Estimated total annual burden (hours)
SSA-1026-OCR-MS-SCE | 11,400 | 1 | 18 | 3,420
SSA-1026-OCR-SM-REDE | 225,000 | 1 | 18 | 67,500
Total | 236,400 |  |  | 70,920

Dated: December 12, 2011.
Faye Lipsky,
Reports Clearance Officer, Center for Reports Clearance, Social Security Administration.

[FR Doc. 2011-32145 Filed 12-14-11; 8:45 am]

BILLING CODE 4191-02-P